FEDERAL COMMUNICATIONS COMMISSION

[CG Docket No. 03-123; DA 06-1506]

The Consumer & Governmental Affairs Bureau Reminds State Telecommunications Relay Service (TRS) Programs and Interstate TRS Providers of Their Obligations

AGENCY: Federal Communications Commission.

ACTION: Notice.

SUMMARY: In this document, the Commission notifies the public, certified state Telecommunications Relay Services (TRS) programs, and interstate TRS providers that they are required to submit to the Commission a designated agent for the service of informal and formal complaints. Additionally, the Commission reminds certified state TRS programs, Video Relay Service, IP Relay of their obligation to notify the Commission of any substantive changes in their TRS programs within 60 days of when they occur, and must certify that the TRS program continues to meet federal minimum standards after implementing the substantive change.

DATES: Effective July 25, 2006.

ADDRESSES: Federal Communications Commission, 445 12th Street, SW., Washington, DC 20554.

FOR FURTHER INFORMATION CONTACT: Arlene Alexander, (202) 418-0581 (voice), (202) 418-0183 (TTY), or e-mail: Arlene.Alexander@fcc.gov.

SUPPLEMENTARY INFORMATION: This is a summary of the Commission's document, DA 06-1506, released July 25, 2006. This document reminds certified state TRS programs and interstate TRS providers of their obligation to provide the Commission a designated point of contact for TRS complaints, and of the obligation of certified state TRS programs and RS and IP Relay providers to notify the Commission of any substantive changes in their TRS program, within 60 days of the substantive change, certifying that the TRS provided continues to meet the minimum standards. Any changes to the points of contact or to the TRS program may be sent to the Commission via e-mail to TRS_POC@fcc.gov. Contact information for TRS programs is posted on the Consumer & Governmental Affairs Bureau's Web at: http://www.fcc.gov/cgb/dro/trs_contact_list.html.

The full text of document DA 06-1506 and copies of any subsequently filed documents in this matter will be available for public inspection and copying during regular business hours at the FCC Reference Information Center, Portals II, 445 12th Street, SW., Room CY-A257, Washington, DC 20554. Document DA 06-1506 and copies of subsequently filed documents in this matter may also be purchased from the Commission's duplicating contractor at Portals II, 445 12th Street, SW., Room CY-B402, Washington, DC 20554. Customers may contact the Commission's contractor at their Web site www.bcpiweb.com or call 1-800-378-3160.

To request materials in accessible formats for people with disabilities (Braille, large print, electronic files, audio format), send an e-mail to fcc504@fcc.gov or call the Consumer & Governmental Affairs Bureau at (202) 418-0530 (voice), (202) 418-0432 (TTY). This document, DA 06-1506, can also be downloaded in Word or Portable Document Format (PDF) at: http://www.fcc.gov/cgb/dro.

Synopsis

On March 6, 2000, the Commission released a Report and Order and Further Notice of Proposed Rulemaking (RO & FNPRM) CC Docket 98-67, FCC 00-56, 15 FCC Rcd 5140 (March 6, 2000), published at 65 FR 38432, June 21, 2000 and 65 FR 38490, June 21, 2000, that adopted regulations requiring certified state Telecommunications Relay Services (TRS) programs and interstate TRS providers submit to the Commission a designated agent for the service of informal and formal complaints. The designation shall include a name or department designation, business address, telephone number (voice and TTY), facsimile number and, if available, internet e-mail address. Additionally, the Commission required certified state TRS programs to notify the Commission of any substantive changes in their TRS programs within 60 days of when they occur, and must certify that the TRS program continues to meet Federal minimum standards after implementing the substantive change. (See 47 CFR 64.604 and 64.605 of the Commission's rules).

Federal Communications Commission.
Jay Keithley,
Deputy Chief, Consumer & Governmental Affairs Bureau.

[FR Doc. E6-12488 Filed 8-1-06; 8:45 am]

BILLING CODE 6712-01-P